DEPARTMENT OF COMMERCE

Foreign-Trade Zones Board

[Order No. 1619]

Approval of Manufacturing Authority Within Foreign-Trade Zone 38, Spartanburg County, SC, ZF Lemförder Corporation (Automotive Suspension Systems)

Pursuant to its authority under the Foreign-Trade Zones Act of June 18, 1934, as amended (19 U.S.C. 81a-81u) (the Act), the Foreign-Trade Zones Board (the Board) adopts the following Order:

Whereas, the South Carolina State Ports Authority, grantee of FTZ 38, has requested authority under Section 400.28(a)(2) of the Board's regulations on behalf of ZF Lemförder Corporation to assemble automotive suspension systems under FTZ procedures within FTZ 38—Site 7, Duncan, South Carolina (FTZ Docket 28-2008, filed 4-30-2008);

Whereas, notice inviting public comment has been given in the Federal Register (73 FR 25645, 5-7-2008);

Whereas, the Board adopts the findings and recommendations of the examiner's report, and finds that the requirements of the FTZ Act and the Board's regulations are satisfied, and that approval of the application is in the public interest;

Now, therefore, the Board hereby grants authority for the assembly of automotive suspension systems within FTZ 38 for ZF Lemförder Corporation, as described in the application and Federal Register notice, subject to the Act and the Board's regulations, including Section 400.28.

Signed at Washington, DC, this 7th day of May 2009.
Ronald K. Lorentzen,
Acting Assistant Secretary of Commerce for Import Administration, Alternate Chairman, Foreign-Trade Zones Board.

[FR Doc. E9-12964 Filed 6-2-09; 8:45 am]

BILLING CODE P